DEPARTMENT OF TRANSPORTATION

Office of the Secretary of Transportation

[DOT-OST-2022-0076]

Update to U.S. DOT FY22 Safe Streets and Roads for All Funding

AGENCY: Office of the Secretary of Transportation, U.S. Department of Transportation (DOT).

ACTION: Amendment to FY22 Notice of Funding Opportunity (NOFO).

SUMMARY: The purpose of this notice is to amend the Fiscal Year 2022 (FY22) NOFO for the Safe Streets and Roads for All (SS4A) discretionary grant program. Amendments are technical corrections as outlined in this Federal Register Notice.

DATES: Applications still must be submitted by 5:00 p.m. EDT on Thursday, September 15, 2022. Late applications will not be accepted.

ADDRESSES: Applications must be submitted through www.Grants.gov. Only applicants who comply with all submission requirements described in this notice and submit applications through www.Grants.gov on or before the application deadline will be eligible for award.

FOR FURTHER INFORMATION CONTACT: For further information regarding this notice, please contact the Office of the Secretary via email at SS4A@dot.gov, or call Paul Teicher at (202) 366-4114. A TDD is available for individuals who are deaf or hard of hearing at 202-366-3993. In addition, DOT will periodically post answers to common questions and requests for clarifications on the Department's website at https://www.transportation.gov/SS4A.

Signed in Washington, DC, on July 29, 2022.
Christopher Coes,
Assistant Secretary for Transportation Policy.

BILLING CODE 4910-9X-P

[FR Doc. 2022-16662 Filed 8-3-22; 8:45 am]

BILLING CODE 4910-9X-C